DEPARTMENT OF DEFENSE

Office of the Secretary of Defense

Charter Amendment of Department of Defense Federal Advisory Committees

AGENCY: DoD.

ACTION: Charter Amendment of Federal Advisory Committee.

SUMMARY: Under the provisions of the Federal Advisory Committee Act of 1972 (5 U.S.C. Appendix, as amended), the Government in the Sunshine Act of 1976 (5 U.S.C. 552b, as amended), and 41 CFR 102-3.85, the Department of Defense gives notice that it is amending the charter for the Western Hemisphere Institute for Security Operations Board of Visitors (hereafter referred to as the Board).

The Board is a non-discretionary federal advisory committee established by 10 U.S.C. 2166(e) to provide the Secretary of Defense through the Secretary of the Army, independent advice and recommendations on matters pertaining to the operations and management of the Western Hemisphere Institute for Security Operations (hereafter referred to as the Institute). Section 956 of Public Law 110-181 (National Defense Authorization Act for Fiscal Year 2008) amended the Board's membership provisions of 10 U.S.C. 2166(e)(1) to include the commanders of the combatant commands having geographic responsibility for the Western Hemisphere. All other provisions of 10 U.S.C. 2166(e) remained unchanged.

Pursuant to 10 U.S.C. 2166(e), the Board shall:

1. Inquire into the curriculum instruction, physical equipment, fiscal affairs, and academic methods of the Institute, other matters relating to the Institute that the Board decides to consider, and any other matter that the Secretary of Defense determines appropriate;

2. Review the curriculum to determine whether it adheres to U.S. doctrine, complies with applicable U.S. laws and regulations, and is consistent with U.S. policy goals towards the Western Hemisphere; and

3. Determine whether the Institute emphasizes human rights to include the rule of law, due process, civilian control of the military, and the role of the military in a democratic society.

Pursuant to 10 U.S.C. 2166(e)(1), the Board shall be composed of thirteen members:

1. Two members of the Senate (the Chair and Ranking Member of the Armed Services Committee or their designees);

2. Two Members of the House of Representatives (the Chair and Ranking Member of the Armed Services Committee or their designees);

3. One person designated by the Secretary of State; the senior military officer responsible for training and education in the U.S. Army (or designee); the commanders of the combatant commands having geographic responsibility for the Western Hemisphere (or designee); and

4. Six persons designated by the Secretary of Defense including, to the extent practicable, persons from academia, religious institutions, and human rights communities.

Board Members appointed by the Secretary of Defense, who are not federal officers or employees, shall serve as Special Government Employees under the authority of 5 U.S.C. 3109. Board Members shall be appointed for a two-year term, and may be extended for an additional term of two years. With the exception of travel and per diem for official travel, they shall serve without compensation.

The Board shall be authorized to establish subcommittees, as necessary and consistent with its mission, and these subcommittees or working groups shall operate under the provisions of the Federal Advisory Committee Act of 1972, the Sunshine in the Government Act of 1976, and other appropriate federal regulations.

Such subcommittees or workgroups shall not work independently of the chartered Board, and shall report all their recommendations and advice to the Board for full deliberation and discussion. Subcommittees or workgroups have no authority to make decisions on behalf of the chartered Board nor can they report directly to the Department of Defense or any federal officers or employees who are not Board Members.

SUPPLEMENTARY INFORMATION: The Board shall meet at the call of the Board's Designated Federal Officer, in consultation with the Board's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Western Hemisphere Institute for Security Operations Board of Visitors membership about the Board's mission and functions. Written statements may be submitted at any time or in response to the stated agenda of planned meeting of the Western Hemisphere Institute for Security Operations Board of Visitors.

All written statements shall be submitted to the Designated Federal Officer for the Western Hemisphere Institute for Security Operations Board of Visitors, and this individual will ensure that the written statements are provided to the membership for their consideration. Contact information for the Western Hemisphere Institute for Security Operations Board of Visitors' Designated Federal Officer can be obtained from the GSA's FACA Database— https://www.fido.gov/facadatabase/public.asp.

The Designated Federal Officer, pursuant to 41 CFR 102-3.150, will announce planned meetings of the Western Hemisphere Institute for Security Operations Board of Visitors. The Designated Federal Officer, at that time, may provide additional guidance on the submission of written statements that are in response to the stated agenda for the planned meeting in question.

FOR FURTHER INFORMATION CONTACT: Contact Jim Freeman, Deputy Committee Management Officer for the Department of Defense, 703-601-2554, extension 128.

Dated: February 26, 2008.
L.M. Bynum,
Alternate OSD Federal Register, Liaison Officer, Department of Defense.

[FR Doc. E8-3997 Filed 2-29-08; 8:45 am]

BILLING CODE 5001-06-P